NUCLEAR REGULATORY COMMISSION

[Docket No. 40-8907; NRC-2019-0026]

United Nuclear Corporation Church Rock Project

AGENCY: Nuclear Regulatory Commission.

ACTION: Draft environmental impact statement; reopening of comment period.

SUMMARY: On November 13, 2020, the U.S. Nuclear Regulatory Commission (NRC) issued for public comment a draft Environmental Impact Statement (EIS) for United Nuclear Corporation's (UNC) license amendment request. The public comment period closed on May 27, 2021. The NRC has decided to re-open the public comment period to allow more time for members of the public to develop and submit their comments. UNC is requesting authorization to amend its license (SUA-1475) to excavate approximately 1 million cubic yards (CY) of mine waste from the Northeast Church Rock Mine Site and dispose of it at the existing mill site in McKinley County, New Mexico. The NRC plans to hold a public meeting in the future to promote full understanding of the contemplated action and facilitate public comment.

DATES: The comment period for the document published on November 13, 2020 (85 FR 72706) has been reopened. Comments should be filed no later than October 31, 2021. Comments received after this date will be considered, if it is practical to do so, but the Commission is able to ensure consideration only for comments received on or before this date.

ADDRESSES: You may submit comments by any of the following methods; however, the NRC encourages electronic comment submission through the Federal Rulemaking website:

• Federal Rulemaking Website: Go to https://www.regulations.gov/ and search for Docket ID NRC-2019-0026. Address questions about Docket IDs to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: UNC-ChurchRockEIS.resource@nrc.gov.

• Leave a voicemail at: 888-672-3425.

For additional direction on obtaining information and submitting comments, see “Obtaining Information and Submitting Comments” in the SUPPLEMENTARY INFORMATION section of this document.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Obtaining Information and Submitting Comments

A. Obtaining Information

Please refer to Docket ID NRC-2019-0026 when contacting the NRC about the availability of information regarding this document. You may obtain publicly available information related to this action by the following methods:

• Federal Rulemaking Website: Go to https://www.regulations.gov and search for Docket ID NRC-2019-0026.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

• Project Web Page: Information related to the UNC Church Rock project can be accessed on the NRC's project web page at: https://www.nrc.gov/info-finder/decommissioning/uranium/united-nuclear-corporation-unc-.html.

• Public Library: A copy of the draft EIS can be accessed at the following public library: Octavia Fellin Public Library, Gallup, NM 87301.

B. Submitting Comments

The NRC encourages electronic comment submission through the Federal Rulemaking Website (https://www.regulations.gov). Please include Docket ID NRC-2019-0026 in your comment submission. Written comments may be submitted during the draft EIS comment period as described in the ADDRESSES section of the document.

The NRC cautions you not to include identifying or contact information that you do not want to be publicly disclosed in your comment submission. The NRC posts all comment submissions at https://www.regulations.gov and enters all comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On November 13, 2020, the NRC issued for public comment the draft EIS for the UNC license amendment to excavate approximately 1 million CY of mine waste from the Northeast Church Rock Mine Site and dispose of it at the existing mill site in McKinley County, New Mexico.

The draft EIS for UNC's license amendment application includes the NRC staff's preliminary analysis that evaluates the environmental impacts of the proposed action and alternatives to the proposed action. After comparing the impacts of the proposed action to reasonable alternatives and the no-action alternative, the NRC staff, in accordance with the requirements in part 51 of title 10 of the Code of Federal Regulations, “Environmental Protection Regulations for Domestic Licensing and Related Regulatory Functions” preliminarily recommends the proposed action, which would authorize UNC to transfer and dispose Northeast Church Rock mine waste on top of the UNC tailings impoundment. This recommendation is based on (i) the license application request, which includes UNCs Environmental Report and supplemental documents, as well as UNC's responses to the NRC staff's requests for additional information; (ii) consultation with Federal, State, Tribal, and local agencies and input from other stakeholders; and (iii) independent NRC staff review as documented in the assessments summarized in this EIS.

The public comment period was originally scheduled to close on December 28, 2020 (85 FR 72706). The NRC published a second notice on December 23, 2020 (85 FR 84016), that extended the closing date for the public comment period to February 26, 2021. On February 5, 2021, NRC published a third notice that extended the public comment until May 27, 2021 (86 FR 8386). The NRC received a request from the President of the Navajo Nation (ADAMS Accession No. ML21152A051) to extend the comment period through October 31, 2021. After considering this request, the NRC has decided to re-open the comment period to allow more time for members of the public to develop and submit their comments on the draft EIS. Comments should be submitted by October 31, 2021, to ensure consideration. Comments of Federal, State, and local agencies, Indian Tribes or other interested persons will be made available for public inspection when received.

The NRC is planning to hold at least one additional meeting during the extended comment period. Stakeholders should monitor the NRC's public meeting website for information about future public meetings at: https://www.nrc.gov/public-involve/public-meetings.html.

Dated: June 14, 2021.
For the Nuclear Regulatory Commission.
Jessie M. Quintero,
Chief, Environmental Review Materials Branch, Division of Rulemaking, Environmental, and Financial Support, Office of Nuclear Material Safety and Safeguards.

[FR Doc. 2021-12881 Filed 6-16-21; 8:45 am]

BILLING CODE 7590-01-P